INTERNATIONAL TRADE COMMISSION

[Investigation No. 337-TA-1066]

Certain Recombinant Factor IX Products Commission Determination Not To Review an Initial Determination Granting an Unopposed Motion for Termination of the Investigation Based on Withdrawal of the Complaint; Termination of the Investigation

AGENCY: U.S. International Trade Commission.

ACTION: Notice.

SUMMARY: Notice is hereby given that the U.S. International Trade Commission has determined not to review an initial determination (Order No. 19) granting an unopposed motion for termination of the investigation based on withdrawal of the complaint.

FOR FURTHER INFORMATION CONTACT: Lucy Grace D. Noyola, Office of the General Counsel, U.S. International Trade Commission, 500 E Street SW, Washington, DC 20436, telephone 202-205-3438. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted this investigation on August 14, 2017, based on a complaint filed on behalf of Bioverativ Inc. of Waltham, Massachusetts; Bioverativ Therapeutics Inc. of Waltham, Massachusetts; and Bioverativ U.S. LLC of Waltham, Massachusetts (collectively, “Complainants”). 82 FR 37898 (Aug. 14, 2017). The complaint alleges section 337 of the Tariff Act of 1930, as amended, based upon the importation into the United States, the sale for importation, and the sale within the United States after importation of certain recombinant Factor IX products by reason of infringement of U.S. Patent Nos. 9,670,475; 9,623,091; and 9,629,903. Id. The notice of investigation named as respondents CSL Behring LLC of Prussia, Pennsylvania; CSL Behring GmbH, Emil-von-Behring-Strasse of Marburg, Germany; and CSL Behring Recombinant Facility AG, Wankdorfstrasse of Bern, Switzerland (collectively, “Respondents”). Id. The Office of Unfair Import Investigations (“OUII”) also was named as a party in the investigation. On February 6, 2018, Complainants filed a motion to terminate the investigation based on withdrawal of the complaint. On February 8, 2018, Respondents filed a response, taking no position on the motion. On February 12, 2018, OUII filed a response supporting the motion. On February 15, 2018, the presiding administrative law judge (“ALJ”) issued an initial determination (“ID”) (Order No. 19), granting the motion. The ALJ found that the motion complied with section 210.21(a)(1) of the Commission's Rules of Practice and Procedure (19 CFR 210.21(a)(1)), that there was no evidence of extraordinary circumstances preventing termination of the investigation, and that termination is in the public interest. No petitions for review of the ID were filed.

The Commission has determined not to review the subject ID.

The authority for the Commission's determination is contained in section 337 of the Tariff Act of 1930, as amended (19 U.S.C. 1337), and in part 210 of the Commission's Rules of Practice and Procedure (19 CFR part 210).

By order of the Commission.
Issued: March 6, 2018.
Lisa R. Barton,
Secretary to the Commission.

[FR Doc. 2018-04773 Filed 3-8-18; 8:45 am]

BILLING CODE 7020-02-P